DEPARTMENT OF TRANSPORTATION

Federal Aviation Administration

14 CFR Part 39

[Docket No. 2002-SW-19-AD; Amendment 39-13063; AD 2003-04-14]

RIN 2120-AA64

Airworthiness Directives; Bell Helicopter Textron Canada (Bell) Model 427 Helicopters

AGENCY: Federal Aviation Administration, DOT.

ACTION: Final rule.

SUMMARY: This amendment adopts a new airworthiness directive (AD) for the specified Bell model helicopters that requires replacing the hydraulic solenoid tee fitting (tee fitting) and tubes. This amendment is prompted by the manufacturer's discovery that tee fittings may be installed improperly and restrict hydraulic fluid flow. The actions specified by this AD are intended to prevent restricted flow of hydraulic fluid to the flight control hydraulic actuators resulting in loss of hydraulic control, excessive stiffness in the flight controls, and a subsequent forced landing of the helicopter.

DATES: Effective April 4, 2003.

The incorporation by reference of certain publications listed in the regulations is approved by the Director of the Federal Register as of April 4, 2003.

ADDRESSES: The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: A proposal to amend 14 CFR part 39 to include an AD for Bell Model 427 helicopters was published in the Federal Register on October 18, 2002 (67 FR 64325). That action proposed to require replacing tee fittings, part number (P/N) AS1003W060404, and tubes, P/Ns 427-080-058-101 and 427-080-003-101, with union, P/N AS5230W0606, tee fitting, P/N NAS1763W060404, and tubes, P/Ns 427-080-069-101 and 427-080-068-101.

Transport Canada, the airworthiness authority for Canada, notified the FAA that an unsafe condition may exist on Bell Model 427 helicopters. Transport Canada advises that there is a possibility of installing the existing tee fitting in such a way that the hydraulic fluid flow will be significantly restricted. To preclude this possibility, Bell has designed a new tee fitting installation.

Bell has issued Bell Helicopter Textron Alert Service Bulletin No. 427-01-02, dated August 20, 2001, which specifies replacing the tee fitting. Transport Canada classified this alert service bulletin as mandatory and issued AD No. CF-2002-11, dated January 31, 2002, to ensure the continued airworthiness of these helicopters in Canada.

Interested persons have been afforded an opportunity to participate in the making of this amendment. No comments were received on the proposal or the FAA's determination of the cost to the public. The FAA has determined that air safety and the public interest require the adoption of the rule with one editorial change. The manufacturer's legal name has changed since the issuance of the proposed AD, and the new name is reflected in this AD; this change will neither increase the economic burden on any operator nor increase the scope of the AD.

The FAA estimates that 31 helicopters of U.S. registry will be affected by this AD, that it will take approximately 1 work hour per helicopter to replace the tee fitting and tubes, and that the average labor rate is $60 per work hour. Required parts will cost approximately $527 per helicopter. Based on these figures, the total cost impact of the AD on U.S. operators is estimated to be $18,197 to replace the tee fitting and tubes in the entire fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-04-14 Bell Helicopter Textron Canada: Amendment 39-13063. Docket No. 2002-SW-19-AD.

Applicability: Model 427 helicopters, serial numbers 56001 through 56031, with hydraulic solenoid tee fitting, part number (P/N) AS1003W060404, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required at the next hydraulic filter and fluid replacement or within 30 days, whichever occurs first, unless accomplished previously.

To prevent restricted flow of hydraulic fluid to the flight control hydraulic actuators resulting in loss of hydraulic control, excessive stiffness in the flight controls, and a subsequent forced landing of the helicopter, accomplish the following:

(a) Replace the hydraulic solenoid tee fitting (tee fitting), P/N AS1003W060404, and tubes, P/Ns 427-080-058-101 and 427-080-003-101, with union, P/N AS5230W0606, tee fitting, P/N NAS1763W060404, and tubes, P/Ns 427-080-069-101 and 427-080-068-101, in accordance with the Accomplishment Instructions in Bell Helicopter Textron Alert Service Bulletin No. 427-01-02, dated August 20, 2001.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) The replacements shall be done in accordance with the Accomplishment Instructions in Bell Helicopter Textron Alert Service Bulletin No. 427-01-02, dated August 20, 2001. This incorporation by reference was approved by the Director of the Federal Register in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(e) This amendment becomes effective on April 4, 2003.

Note 3: The subject of this AD is addressed in Transport Canada (Canada) AD No. CF-2002-11, dated January 31, 2002.

Issued in Fort Worth, Texas, on February 14, 2003.
David A. Downey,
Manager, Rotorcraft Directorate, Aircraft Certification Service.

[FR Doc. 03-4476 Filed 2-27-03; 8:45 am]

BILLING CODE 4910-13-P